DEPARTMENT OF AGRICULTURE

Forest Service

Notice of Meeting

AGENCY: Colville National Forest, Forest Service, USDA.

SUMMARY: Colville National Forest's Resource Advisory Committee will meet twice in September, in Colville, Washington. The purpose of these meetings is to review and provide recommendations for Title II projects to be funded by the Secure Rural Schools and Community Self-Determination Act, more commonly known as Payments to Counties, in Fiscal Year 2008.

DATES: The meetings will be held on Wednesday, September 5, 2007, from 9 a.m. until 4 p.m., and on Wednesday, September 19, 2007, from 9 a.m. until 4 p.m. A public input session will be provided at each of the meetings. Comments will be limited to three minutes per person.

ADDRESSES: Both meetings will be held at the Colville Campus of Community Colleges of Spokane—Colville Center, 985 South Elm Street, Colville, WA 99114.

FOR FURTHER INFORMATION CONTACT: Rick Brazell, Forest Supervisor, the Designated Federal Official for the Colville National Forest Resource Advisory Committee. Colville National Forest, 765 South Main Street, Colville, WA 99114, 509-684-7000.

SUPPLEMENTARY INFORMATION: Both meetings are open to the public. Project discussion will be limited to Resource Advisory Committee members and Forest Service personnel. However, a public input session will be provided on the agenda, and individuals will have the opportunity to address the committee at that time.

Rick Brazell,
Forest Supervisor.

[FR Doc. 07-4008 Filed 8-15-07; 8:45 am]

BILLING CODE 3410-11-M